DEPARTMENT OF TRANSPORTATION

Federal Aviation Administration

14 CFR Part 39

[Docket No. FAA-2009-0915; Directorate Identifier 2009-NM-224-AD; Amendment 39-16049; AD 2009-21-10]

RIN 2120-AA64

Airworthiness Directives; AVOX Systems and B/E Aerospace Oxygen Cylinder Assemblies, as Installed on Various Transport Airplanes

AGENCY: Federal Aviation Administration (FAA), DOT.

ACTION: Final rule; request for comments.

SUMMARY: We are adopting a new airworthiness directive (AD) for certain AVOX Systems and B/E Aerospace oxygen cylinder assemblies, as installed on various transport airplanes. This AD requires removing certain oxygen cylinder assemblies from the airplane. This AD was prompted by the reported rupture of a high-pressure gaseous oxygen cylinder, which had insufficient strength characteristics due to improper heat treatment. We are issuing this AD to prevent an oxygen cylinder from rupturing, which, depending on the location, could result in structural damage and rapid decompression of the airplane, damage to adjacent essential flight equipment, deprivation of the necessary oxygen supply for the flightcrew, and injury to cabin occupants or maintenance or other support personnel.

DATES: This AD is effective December 17, 2009.

We must receive comments on this AD by January 19, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Robert Hettman, Aerospace Engineer, Cabin Safety and Environmental Systems Branch, ANM-150S, Seattle Aircraft Certification Office, FAA, 1601 Lind Avenue, SW., Renton, Washington 98057-3356; telephone (425) 917-6457; fax (425) 917-6590.

SUPPLEMENTARY INFORMATION:

Discussion

During routine hydrostatic testing, a United States Department of Transportation Type 3HT-1850 high-pressure gaseous oxygen cylinder ruptured under what would be considered normal operating conditions. Further investigation indicates that the cylinder had insufficient strength characteristics due to improper heat treatment. The improper heat treatment is limited to specific production batches, but the affected oxygen cylinders may be installed on various transport airplanes and aircraft certificated in other categories. The oxygen cylinders contain gaseous oxygen under high pressure. Rupture of an oxygen cylinder, depending on its location, could result in structural damage and rapid decompression of the airplane, damage to adjacent essential flight equipment, deprivation of the necessary oxygen supply for the flightcrew, and injury to cabin occupants or maintenance or other support personnel.

FAA's Determination and Requirements of This AD

Certain affected airplanes have been approved by the aviation authorities of other countries, and are approved for operation in the United States.

We are issuing this AD because we evaluated all the relevant information and determined the unsafe condition described previously is likely to exist or develop in other products of these same type designs. This AD requires removing the affected oxygen cylinder assemblies from transport airplanes.

Related Rulemaking

The FAA is currently evaluating the risk associated with these oxygen cylinder assemblies installed on aircraft certificated in other categories to determine whether any action is necessary to address the unsafe condition on these aircraft.

FAA's Justification and Determination of the Effective Date

This AD addresses the consequences of the potential rupture of certain oxygen cylinder assemblies. Because of our requirement to promote safe flight of civil aircraft and thus the critical need to ensure the proper functioning of the oxygen cylinders and the short compliance time involved with this action, this AD must be issued immediately.

Because an unsafe condition exists that requires the immediate adoption of this AD, we find notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0915; Directorate Identifier 2009-NM-224-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-21-10 AVOX Systems and B/E Aerospace: Amendment 39-16049. Docket No. FAA-2009-0915; Directorate Identifier 2009-NM-224-AD.

Effective Date

(a) This airworthiness directive (AD) is effective December 17, 2009.

Affected ADs

(b) None.

Applicability

(c) This AD applies to the oxygen cylinder assemblies, approved under United States Department of Transportation Regulations for Type 3HT cylinders, identified in Table 1 of this AD. These oxygen cylinder assemblies may be installed on various transport airplanes, certificated in any category, identified in but not limited to the airplanes included in Table 2 of this AD.

Table 1—Affected Oxygen Cylinder Assembly Part Numbers
Manufacturer | Part Nos.
AVOX Systems | *6350A34 series, 800112-03, 800112-10, 800112-13, 801293-03, 801307-00, 801307-01, 801307-02, 801307-03, 801307-07, 801307-09, 801307-23, 801307-24, 801365-04, 801365-14, 801375-00, 801977-05, *8915 series.
| (*For example, 6350A34-X-X or 8915XX-XX, where “X” denotes a part number digit).
B/E Aerospace | B43570-3, B43570-5, 176018-115, 176112-115, 176177-115, 176181-115, 176529-97.

Table 2—Affected Airplanes
Manufacturer | Model
Airbus | A300 B4-620, B4-622, B4-605R, and F4-605R airplanes.
| A310-203, -204, -221, -222, -304, and -324 airplanes.
| A318-111 and -112 airplanes.
| A319-111, -112, -113, -114, -115, -131, -132, and -133 airplanes.
| A320-111, -211, -212, -214, -231, -232, and -233 airplanes.
| A321-111, -112, -131, -211, and -231 airplanes.
| A330-301, -321, and -322 airplanes.
| A340-211 and -212 airplanes.
| A340-311 and -312 airplanes.
The Boeing Company | 707-100 long body, -200, -100B long body, and -100B short body series airplanes; and 707-300, -300B, -300C, and -400 series airplanes.
| 727, 727C, 727-100, 727 -100C, 727-200, and 727-200F series airplanes.
| 737-100, -200, -200C, -300, -400, -500, -600, -700, -700C, -800, -900, and -900ER series airplanes.
| 747-100, 747-100B, 747-100B SUD, 747-200B, 747-200C, 747-200F, 747-300, 747-400, 747-400D, 747-400F, 747SR, and 747SP series airplanes.
| 757-200, -200PF, -200CB, and -300 series airplanes.
| 767-200, -300, -300F, and -400ER series airplanes.
| 777-200, -200LR, -300, -300ER, and 777F series airplanes.
Gulfstream Aerospace Company | G-IV airplanes.
McDonnell Douglas Corporation | DC-8-11, DC-8-12, DC-8-21, DC-8-31, DC-8-32, DC-8-33, DC-8-41, DC-8-42, DC-8-43, DC-8-51, DC-8-52, DC-8-53, and DC-8-55 airplanes.
| DC-9-11, DC-9-12, DC-9-13, DC-9-14, DC-9-15, DC-9-15F, DC-9-21, DC-9-31, DC-9-32, DC-9-32 (VC-9C), DC-9-32F, DC-9-32F (C-9A, C-9B), DC-9-33F, DC-9-34, DC-9-34F, DC-9-41, DC-9-51, DC-9-81 (MD-81), DC-9-82 (MD-82), DC-9-83 (MD-83), and DC-9-87 (MD-87) airplanes.
| DC-10-10, DC-10-10F, DC-10-15, DC-10-30, DC-10-30F (KC-10A and KDC-10), and DC-10-40 airplanes.
| MD-10-10F and MD-10-30F airplanes.
| MD-11 and MD-11F airplanes.
| MD-88 airplanes.
| MD-90-30 airplanes.
Short Brothers | SD3-30, SD3-SHERPA, and SD3-60 SHERPA airplanes.

Subject

(d) Air Transport Association (ATA) of America Code 35: Oxygen.

Unsafe Condition

(e) This AD was prompted by the reported rupture of a high-pressure gaseous oxygen cylinder, which had insufficient strength characteristics due to improper heat treatment. The Federal Aviation Administration is issuing this AD to prevent an oxygen cylinder from rupturing, which, depending on the location, could result in structural damage and rapid decompression of the airplane, damage to adjacent essential flight equipment, deprivation of the necessary oxygen supply for the flightcrew, and injury to cabin occupants or maintenance or other support personnel.

Compliance

(f) You are responsible for having the actions required by this AD performed within the compliance times specified, unless the actions have already been done.

Inspection

(g) Within 90 days after the effective date of this AD, inspect to determine the serial number of the oxygen cylinder assemblies installed in the airplane. The serial number is stamped into the steel cylinder near the neck. A review of airplane records is acceptable in lieu of this inspection if the serial numbers of the oxygen cylinder assemblies can be conclusively determined from that review. For any oxygen cylinder assembly that has a serial number identified in Table 3 of this AD: Remove it from the airplane before further flight.

Table 3—Affected Oxygen Cylinder Assembly Serial Numbers
Cylinder manufacturer | Affected serial Nos.
AVOX Systems | ST82307 through ST82309 inclusive.
| ST82335 through ST82378 inclusive.
| ST82385 through ST82506 inclusive, except for S/N ST82498, which ruptured.
| ST82550 through ST82606 inclusive.
| ST82617 through ST82626 inclusive.
| ST83896 through ST83905 inclusive.
| ST84209 through ST84218 inclusive.
| ST84224 through ST84236 inclusive.
| ST86138, ST86143, ST86145, ST86150, ST86169, ST86172, ST86177.
| ST86299 through ST86307 inclusive.
B/E Aerospace | K495120 through K495121 inclusive.
| K617383 through K617423 inclusive.
| K629573 through K629577 inclusive.
| K674451 through K674455 inclusive.
| K757064 through K757066 inclusive.

Parts Installation

(h) As of the effective date of this AD, no person may install, on any airplane, a United States Department of Transportation Type 3HT oxygen cylinder assembly that has a part number identified in Table 1 of this AD and a serial number identified in Table 3 of this AD.

Alternative Methods of Compliance (AMOCs)

(i)(1) The Manager, Seattle Aircraft Certification Office, FAA, has the authority to approve AMOCs for this AD, if requested using the procedures found in 14 CFR 39.19. Send information to Attn: Robert Hettman, Aerospace Engineer, Cabin Safety and Environmental Systems Branch, ANM-150S, Seattle Aircraft Certification Office, FAA, 1601 Lind Avenue, SW., Renton, Washington 98057-3356; telephone (425) 917-6457; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically refer to this AD.

Material Incorporated by Reference

(j) None.

Issued in Renton, Washington, on November 25, 2009.
Ali Bahrami,
Manager, Transport Airplane Directorate, Aircraft Certification Service.

[FR Doc. E9-28807 Filed 12-1-09; 8:45 am]

BILLING CODE 4910-13-P